Title 3—

The President

Proclamation 8363 of April 21, 2009

National Volunteer Week, 2009

By the President of the United States of America

A Proclamation

Our Nation’s story begins with a call to volunteer. Confronting the injustices of tyranny and small odds of victory, patriots rallied one another to serve a cause greater than themselves. As the beneficiaries of this legacy, we possess an obligation to volunteer and serve our fellow citizens with similar selflessness and optimism.

Americans keep this proud tradition alive every day across our country. They are protecting us in uniform, feeding the hungry, tutoring children, comforting seniors, and reaching out to veterans. They are providing critical support to schools, shelters, hospitals, and nursing homes, through faith-based and community organizations, at home and abroad. Volunteers change lives and strengthen our Nation and our world.

My Administration is committed to supporting and supplementing the crucial efforts that Americans make to volunteer. The Edward M. Kennedy Serve America Act, which I signed into law today, will help millions of Americans of all ages to volunteer and to direct that service towards meeting our most pressing challenges. It truly will usher in a new era of service.

This landmark law recruits an army of 250,000 per year to engage in intensive service, and it focuses that work on today’s challenges, including clean energy, education, health, veterans care, and economic opportunity. It creates new service opportunities for seniors, baby boomers, and young adults, and improves service learning in our schools.

The law also creates a Social Innovation Fund. This fund looks for new ideas in communities and leverages private, nonprofit, and faith-based support to invest in local innovation. The fund also allows us to test the impact of new ideas and expand successful programs to scale.

Volunteering provides the opportunity to join and better a community. Every American who volunteers can become an integral part of a school, a hospital, or a neighborhood. Those who give of their time also join our Nation’s proud history of service and help preserve this tradition for generations ahead. During National Volunteer Week, we express heartfelt thanks to all who have worked hard in this effort, and we urge more Americans to reach out and meet the manifold unmet needs of fellow Americans.

NOW, THEREFORE, I, BARACK OBAMA, President of the United States of America, by virtue of the authority vested in me by the Constitution and the laws of the United States, do hereby proclaim April 19-25, 2009 as National Volunteer Week. I call upon all Americans to join ongoing volunteer service efforts, and to create new ones.

IN WITNESS WHEREOF, I have hereunto set my hand this twenty-first day of April, in the year of our Lord two thousand nine, and of the Independence of the United States of America the two hundred and thirty-third.

[FR Doc. E9-9621

Filed 4-23-09; 11:15 am]

Billing code 3195-W9-P